DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce

ACTION: Notice of Approval and Availability for the Revised Management Plan for the Hudson River National Estuarine Research Reserve.

SUMMARY: The Estuarine Reserves Division, Office of Ocean and Coastal Resource Management, National Ocean Service, National Oceanic and Atmospheric Administration (NOAA), U.S. Department of Commerce has approved the Hudson River National Estuarine Research Reserve Management Plan Revision.

Four sites along the Hudson River comprise the Hudson River National Estuarine Research Reserve: Piermont Marsh, Iona Island, Tivoli Bays, and Stockport Flats. The Hudson River National Estuarine Research Reserve was designated in 1982 pursuant to Section 315 of the Coastal Zone Management Act of 1972, as amended, 16 U.S.C. 1461. The reserve has been operating in partnership with the New York State Department of Environmental Conservation under a management plan approved in 1993. Pursuant to 15 CFR 921.33(c), a State must revise their management plan every five years. The submission of this plan fulfills this requirement and sets a course for successful implementation of the goals and objectives of the reserve. New facilities and updated programmatic objectives are notable revisions to the 1993 approved management plan.

The revised management plan outlines the administrative structure; the education, stewardship, and research goals of the reserve; and the plans for future land acquisition and facility development to support reserve operations. This management plan describes how the strengths of the reserve will focus on several areas relevant to the Hudson River, including sea level rise and other effects of climate change, development pressure, and invasive species.

Since 1993, the reserve has added an estuary training program that delivers science-based information to key decision makers in New York; has completed a site profile that characterizes the reserve; and has expanded the monitoring, stewardship and education programs. A new headquarters building, the Norrie Point Environmental Center (2007), has been built to support the growth of reserve programs.

FOR FURTHER INFORMATION CONTACT: Amy Clark at (301) 563-1137 or Laurie McGilvray at (301) 563-1158 of NOAA's National Ocean Service, Estuarine Reserves Division, 1305 East-West Highway, N/ORM5, 10th floor, Silver Spring, MD 20910. For copies of the Hudson River Management Plan revision, visit: http://hrnerr.org.

Dated: September 28, 2009.
David Kennedy,
Director, Office of Ocean and Coastal Resource Management, National Oceanic and Atmospheric Administration.

[FR Doc. E9-23825 Filed 9-30-09; 8:45 am]

BILLING CODE 3510-08-P